DEPARTMENT OF COMMERCE

International Trade Administration

[A-570-854]

Final Determination of Sales at Less Than Fair Value: Certain Cold-Rolled Flat-Rolled Carbon Quality Steel Products From The People's Republic of China

AGENCY: Import Administration, International Trade Administration, Department of Commerce.

ACTION: Notice of final determination of sales at less than fair value.

EFFECTIVE DATE: May 31, 2000.

FOR FURTHER INFORMATION CONTACT: Carrie Blozy, Import Administration, International Trade Administration, U.S. Department of Commerce, 14th Street and Constitution Avenue N.W., Washington, DC 20230; telephone: (202) 482-0165.

The Applicable Statute

Unless otherwise indicated, all citations to the statute are references to the provisions effective January 1, 1995, the effective date of the amendments made to the Tariff Act of 1930 (the Act) by the Uruguay Round Agreements Act (URAA). In addition, unless otherwise indicated, all citations to the Department's regulations are to the regulations at 19 CFR part 351 (April 1999).

Final Determination

We determine that certain cold-rolled flat-rolled carbon quality steel products (“cold-rolled steel”) from the People's Republic of China (“PRC”) is being, or is likely to be, sold in the United States at less than fair value (“LTFV”), as provided in section 735 of the Act. The estimated margin of sales are shown in the “Continuation of Suspension of Liquidation” section of this notice.

Case History

We published in the Federal Register the preliminary determination in this investigation on January 7, 2000. See Notice of Preliminary Determination of Sales at Less Than Fair Value and Postponement of Final Determination: Cold-Rolled Flat-Rolled Carbon-Quality Steel Products from the People's Republic of China, 65 FR 1117 (January 7, 2000) (“Preliminary Determination”). Since the publication of the Preliminary Determination, the following events have occurred.

The Department issued supplemental questionnaires to Shanghai Baosteel Group Corporation (“Baosteel”) on February 14 and 29, 2000. Baosteel filed submissions on January 7, January 18, February 28, and March 14, 2000. The Department began its verification of Baosteel's sales and factor of production questionnaire responses on March 13, 2000. On March 16, 2000, Mr. Chen Delin, Vice-Director of the Legal Department of Baosteel, advised the verifiers that Baosteel was terminating the verification as a result of competing demands on Baosteel's time. Additionally, counsel for Baosteel requested that the verifiers return all documentation that had been provided by Baosteel in support of the Department's review of certain areas of Baosteel's response. Therefore, the verification team immediately terminated the verification and returned all documents collected during the course of verification to Baosteel's counsel. See Memorandum For Edward Yang; “Verification of Sales and Factors of Production for Shanghai Baosteel Group Corporation (Baosteel) in the Antidumping Duty Investigation of Certain Cold-Rolled Flat-Rolled Carbon Quality Steel Products from the People's Republic of China,” (March 22, 2000). This memorandum and all other Departmental memoranda referred to herein, are on file in the Central Records Unit, room B-099 of the main Commerce building.

On March 29, 2000, petitioners (Bethlehem Steel Corporation, Ispat Inland Inc., LTV Steel Company, Inc., National Steel Corporation, and U.S. Steel Group, a unit of USX Corporation, (collectively “petitioners”) submitted their case brief with respect to Baosteel. Baosteel did not submit any comments.

Period of Investigation

The period of investigation is October 1, 1998, through March 31, 1999.

Analysis of Comment Received

All issues raised in the case brief by parties to this investigation are addressed in the “Issues and Decision Memorandum” (“Decision Memorandum”) from Joseph A. Spetrini, Deputy Assistant Secretary, Import Administration, to Troy H. Cribb, Acting Assistant Secretary for Import Administration, dated May 22, 2000, which is hereby adopted by this notice. A list of the issues which parties have raised and to which we have responded, all of which are in the Decision Memorandum, is attached to this notice as an Appendix. Parties can find a complete discussion of all issues raised in this investigation and the corresponding recommendations in this public memorandum which is on file in B-099. In addition, a complete version of the Decision Memorandum can be accessed directly on the World Wide Web at www.ita.doc.gov/ import_admin/records/frn/. The paper copy and electronic version of the Decision Memorandum are identical in content.

Scope of Investigation

For a description of the scope of this investigation, see the “Scope of Investigation” section of the Decision Memorandum, which is on file in B-099 and available on the Web at www.ita.doc.gov/ import_admin/records/frn/.

Use of Facts Available

For a discussion of our application of facts available, see the “Facts Available” section of the Decision Memorandum, which is on file in B-099 and available on the Web at www.ita.doc.gov/import_admin/records/frn/.

Continuation of Suspension of Liquidation

In accordance with section 735(c)(1)(B) of the Act, we are directing the Customs Service to continue to suspend liquidation of all entries of subject merchandise from the PRC, that are entered, or withdrawn from warehouse, for consumption on or after January 7, 2000 (the date of publication of the Preliminary Determination in the Federal Register). The Customs Service shall continue to require a cash deposit or posting of a bond equal to the estimated amount by which the normal value exceeds the U.S. price as shown below. These suspension of liquidation instructions will remain in effect until further notice.

The weighted-average dumping margin is as follows:

Manufacturer/exporter | Weighted-average margin (percent)
PRC-Wide rate | 23.72

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered for consumption on or after the effective date of the suspension of liquidation.

This determination is issued and published in accordance with sections 735(d) and 777(i)(1) of the Act.

Dated: May 22, 2000.
Troy H. Cribb,
Acting Assistant Secretary for Import Administration.

Appendix I—Issues in Decision Memo Comments and Responses

1. Adverse Facts Available.

[FR Doc. 00-13581 Filed 5-30-00; 8:45 am]

BILLING CODE 3510-DS-P